DEPARTMENT OF COMMERCE

International Trade Administration

[A-552-801]

Certain Frozen Fish Fillets From the Socialist Republic of Vietnam: Preliminary Results of New Shipper Review; 2022-2023

AGENCY: Enforcement and Compliance, International Trade Administration, Department of Commerce.

SUMMARY: The U.S. Department of Commerce (Commerce) is conducting a new shipper review (NSR) of Co May Import Export Company Limited (Co May) regarding the antidumping duty (AD) order on certain frozen fish fillets (fish fillets) from the Socialist Republic of Vietnam (Vietnam). The period of review (POR) is August 1, 2022, through January 31, 2023. We have preliminarily determined that Co May's sale was a bona fide transaction, and that the sale was not made below normal value (NV). Interested parties are invited to comment on these preliminary results.

DATES: Applicable January 30, 2024.

FOR FURTHER INFORMATION CONTACT: Javier Barrientos, Office V, AD/CVD Operations, Enforcement and Compliance, International Trade Administration, U.S. Department of Commerce, 1401 Constitution Avenue NW, Washington, DC 20230; telephone: (202) 482-2243.

SUPPLEMENTARY INFORMATION:

Background

On August 12, 2003, Commerce published in the Federal Register the AD Order on fish fillets from Vietnam.¹ On March 23, 2023, we initiated an NSR based on a timely request from Co May.²

¹ See Notice of Antidumping Duty Order: Certain Frozen Fish Fillets from the Socialist Republic of Vietnam, 68 FR 47909 (August 12, 2003) (Order).

² See Certain Frozen Fish Fillets from the Socialist Republic of Vietnam: Initiation of Antidumping Duty New Shipper Review, 88 FR 18520 (March 29, 2023).

For a complete description of the events that followed the initiation of this NSR, see the Preliminary Decision Memorandum.³ A list of topics included in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Results of New Shipper Review of the Antidumping Duty Order on Certain Frozen Fish Fillets from the Socialist Republic of Vietnam; 2022-2023,” dated concurrently with, and hereby adopted by, this notice (Preliminary Decision Memorandum).

Scope of the Order

The products covered by this order are fish fillets from Vietnam. For a complete description of the scope of the Order, see the Preliminary Decision Memorandum.

Methodology

Commerce is conducting this NSR in accordance with section 751(a)(2)(B) of the Tariff Act of 1930, as amended (the Act), and 19 CFR 351.214. Commerce calculated export price in accordance with section 772 of the Act. Because Vietnam is a non-market economy country within the meaning of section 771(18) of the Act, Commerce calculated NV in accordance with section 773(c) of the Act. For a full description of the methodology underlying our conclusions, see the Preliminary Decision Memorandum.

Preliminary Results

As a result of this NSR, Commerce preliminarily determines the following weighted-average dumping margin exists for the period, August 1, 2022, through January 31, 2023.

Exporter and producer | Weighted- average dumping margin (dollars per kilogram)
Co May Import Export Company Limited | $0.00

Verification

As provided in 19 CFR 351.307(b)(iv), Commerce intends to verify the information submitted by Co May in advance of the final results of the review.

Disclosure and Public Comment

Commerce intends to disclose the calculations performed in connection with these preliminary results to interested parties within five days of any public announcement or, if there is no public announcement, within five days of the date of publication of this notice in accordance with 19 CFR 351.224(b).

Interested parties will be notified of the deadline for the submission of case briefs at a later date.⁴ Rebuttal briefs, limited to issues raised in the case briefs, may be filed not later than five days after the date for filing case briefs.⁵ Parties who submit case or rebuttal briefs in this proceeding are encouraged to submit with each argument: (1) a statement of the issue; (2) a brief summary of the argument; and (3) a table of authorities.⁶

⁴ See 19 CFR 351.309(c)(1)(ii).

⁵ See 19 CFR 351.309(d)(1) and (2); see also Administrative Protective Order, Service, and Other Procedures in Antidumping and Countervailing Duty Proceedings; Final Rule, 88 FR 67069 (September 29, 2023) (APO and Service Final Rule).

⁶ See 19 CFR 351.309(c)(2) and (d)(2).

As provided under 19 CFR 351.309(c)(2) and (d)(2), in prior proceedings we have encouraged interested parties to provide an executive summary of their brief that should be limited to five pages total, including footnotes.⁷ In this NSR, we instead request that interested parties provide at the beginning of their briefs a public, executive summary for each issue raised in their briefs. Further, we request that interested parties limit their executive summary of each issue to no more than 450 words, not including citations. We intend to use the executive summaries as the basis of the comment summaries included in the Issues and Decision Memorandum that will accompany the final results of this NSR. We request that interested parties include footnotes for relevant citations in the executive summary of each issue. Note that Commerce has amended certain of its requirements pertaining to the service of documents in 19 CFR 351.303(f).⁸

⁷ We use the term “issue” here to describe an argument that Commerce would normally address in a comment of the Issues and Decision Memorandum.

⁸ See APO and Service Final Rule.

Pursuant to 19 CFR 351.310(c), interested parties who wish to request a hearing must submit a written request to the Assistant Secretary for Enforcement and Compliance, filed electronically via ACCESS. Requests should contain the following information: (1) the party's name, address, and telephone number; (2) the number of participants, and whether any participant is a foreign national; and (3) a list of issues to be discussed. Issues raised in the hearing will be limited to those raised in the respective case briefs. An electronically-filed hearing request must be received successfully in its entirety by Commerce's electronic records system, ACCESS, by 5:00 p.m. Eastern Time within 14 days after the date of publication of this notice.⁹ If a request for a hearing is made, Commerce intends to notify parties of the time and date for the hearing.

⁹ See 19 CFR 351.310(c).

Commerce intends to issue the final results of this NSR, including the results of its analysis of issues raised in any written briefs, no later than 90 days after the date of issuance of this notice, unless extended, pursuant to section 751(a)(2)(B)(iii) of the Act.

Assessment Rates

Upon issuing the final results of this review, Commerce will determine, and U.S. Customs and Border Protection (CBP) shall assess, ADs on all appropriate entries covered by this review.¹⁰ If the respondent's weighted-average dumping margin is zero or de minimis in the final results of review, we will instruct CBP to liquidate the appropriate entries without regard to duties. If the respondent's weighted-average dumping margin is above de minimis in the final results of this review, we will calculate an importer-specific (or a customer-specific) per-unit assessment rate by dividing the amount of dumping for the reviewed sale to the importer or customer by the total sales quantity associated with the transaction(s). If an importer-specific rate is zero or de minimis, Commerce will instruct CBP to liquidate the appropriate entries without regard to ADs.

¹⁰ See 19 CFR 351.212(b).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Instructions

The following cash deposit requirements will be effective upon publication of the final results of this review for shipments of the subject merchandise from Vietnam entered, or withdrawn from warehouse, for consumption on or after the publication date, as provided by section 751(a)(2)(C) of the Act: (1) for subject merchandise produced and exported by Co May, the cash deposit rate will be the rate established for Co May in the final results of this NSR (except, if the rate is zero or de minimis, then no cash deposit will be required); (2) for subject merchandise exported by Co May, but not produced by Co May, the cash deposit rate will be the rate for the Vietnam-wide entity; and (3) for subject merchandise produced by Co May, but not exported by Co May, the cash deposit rate will be the rate applicable to the exporter. These cash deposit requirements, when imposed, shall remain in effect until further notice.

Notification to Importers

This notice also serves as a preliminary reminder to importers of their responsibility under 19 CFR 351.402(f) to file a certificate regarding the reimbursement of ADs prior to liquidation of the relevant entries during this review period. Failure to comply with this requirement could result in Commerce's presumption that reimbursement of ADs occurred and the subsequent assessment of double ADs.

Notification to Interested Parties

We are issuing and publishing these preliminary results in accordance with sections 751(a)(2)(B) and 777(i)(1) of the Act, and 19 CFR 351.214.

Dated: January 17, 2024.
Abdelali Elouaradia,
Deputy Assistant Secretary for Enforcement and Compliance.

Appendix

List of Topics Discussed in the Preliminary Decision Memorandum

I. Summary

II. Background

III. Scope of the Order

IV. Discussion of Methodology

V. Recommendation

[FR Doc. 2024-01791 Filed 1-29-24; 8:45 am]

BILLING CODE 3510-DS-P